NATIONAL SCIENCE FOUNDATION

Special Emphasis Panel in Biological Sciences; Notice of Meeting

In accordance with the Federal Advisory Committee Act (Pub. L. 92-463, as amended), the National Science Foundation announces the following meeting:

Name: Special Emphasis Panel in Biological Sciences (#1754).

Date/Time: February 9-10, 2000, 8:30a.m.—5:00p.m.; February 11, 2000, 8:30a.m.—Adjourn.

Place: Room 390, National Science Foundation, 4201 Wilson Blvd, Arlington, Virginia 22230.

Type of Meeting: Closed.

Contact Person: Carter Kimsey, Program Coordinator, Postdoctoral Research Fellowships in Microbial Biology, National Science Foundation, 4201 Wilson Boulevard, Arlington, Virginia 22230. (703) 306-1469.

Purpose of Meeting: To provide advice and recommendations concerning proposals submitted to the National Science Foundation for financial support.

Agenda: To review and evaluate Postdoctoral Research Fellowships in Biological Informatics proposals submitted in response to the program announcement (NSF 99-142).

Reason for Closing: The proposals being reviewed include information of a proprietary or confidential nature, including technical information; financial data, such as salaries; and personal information concerning individuals associated with the proposals. These matters are exempt under 5 U.S.C. 552b(c), (4) and (6) of the Government in the Sunshine Act.

Dated: January 24, 2000.
Karen J. York,
Committee Management Officer.

[FR Doc. 00-1992 Filed 1-27-00 8:45 am]

BILLING CODE 7555-01-M